NUCLEAR REGULATORY COMMISSION

[Docket Nos. EA-20-006 and EA-20-007; ASLBP No. 21-969-01-EA-BD01]

In the Matter of Tennessee Valley Authority; Establishment of Atomic Safety and Licensing Board

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding:

Tennessee Valley Authority

(Enforcement Action)

This Board is being established pursuant to a referral from the NRC Office of the Secretary of two hearing requests, one from the Tennessee Valley Authority (TVA), and another from Erin Henderson, challenging an order imposing a civil penalty on TVA. The challenged order, issued on October 29, 2020, by the NRC Office of Enforcement, was published in the Federal Register on November 4, 2020. See 85 FR 70203 (Nov 4, 2020).

The Board is comprised of the following Administrative Judges:

Paul S. Ryerson, Chairman, Atomic Safety and Licensing Board Panel, U.S. Nuclear Regulatory Commission. Washington, DC 20555-0001

E. Roy Hawkens, Atomic Safety and Licensing Board Panel, U.S. Nuclear Regulatory Commission, Washington, DC 20555-0001

Dr. Sue H. Abreu, Atomic Safety and Licensing Board Panel, U.S. Nuclear Regulatory Commission, Washington, DC 20555-0001

All correspondence, documents, and other materials shall be filed in accordance with the NRC E-Filing rule. See 10 CFR 2.302.

Dated December 8, 2020.
Edward R. Hawkens,
Chief Administrative Judge, Atomic Safety and Licensing Board Panel, Rockville, Maryland.

[FR Doc. 2020-27362 Filed 12-11-20; 8:45 am]

BILLING CODE 7590-01-P